DEPARTMENT OF TRANSPORTATION

National Highway Traffic Safety Administration

[Docket No. NHTSA-2017-0098; Notice 1]

FCA US, LLC, Receipt of Petition for Decision of Inconsequential Noncompliance

AGENCY: National Highway Traffic Safety Administration (NHTSA), U.S. Department of Transportation (DOT).

ACTION: Receipt of petition.

SUMMARY: FCA US, LLC (f/k/a Chrysler Group, LLC “FCA US”), has determined that certain model year (MY) 2013-2017 Jeep Compass motor vehicles do not fully comply with Federal Motor Vehicle Safety Standard (FMVSS) No. 205, Glazing Materials. FCA US filed a noncompliance report dated October 10, 2017. FCA US also petitioned NHTSA on November 2, 2017, for a decision that the subject noncompliance is inconsequential as it relates to motor vehicle safety.

DATES: The closing date for comments on the petition is May 16, 2018.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE, Washington, DC 20590.

• Hand Delivery: Deliver comments by hand to U.S. Department of Transportation, Docket Operations, M-30, West Building Ground Floor, Room W12-140, 1200 New Jersey Avenue SE, Washington, DC 20590. The Docket Section is open on weekdays from 10 a.m. to 5 p.m. except Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: FCA US, has determined that certain MY 2013-2017 Jeep Compass motor vehicles do not fully comply with FMVSS No. 205, Glazing Materials (49 CFR 571.205). FCA US filed a noncompliance report dated October 10, 2017, pursuant to 49 CFR part 573, Defect and Noncompliance Responsibility and Reports. FCA US also petitioned NHTSA on November 2, 2017, pursuant to 49 U.S.C. 30118(d) and 30120(h) and 49 CFR part 556, for an exemption from the notification and remedy requirements of 49 U.S.C. Chapter 301 on the basis that this noncompliance is inconsequential as it relates to motor vehicle safety.

This notice of receipt of FCA US's petition is published under 49 U.S.C. 30118 and 30120 and does not represent any agency decision or other exercise of judgment concerning the merits of the petition.

II. Vehicles Involved: Approximately 287,064 MY 2013-2017 Jeep Compass motor vehicles, manufactured between January 18, 2013, and December 23, 2016, are potentially involved.

III. Noncompliance: FCA US explains that the noncompliance is that the subject vehicles were equipped with liftgate privacy glass that does not fully comply with paragraph S6 of FMVSS No. 205. Specifically, the liftgate glass has the AS2 solar glazing marking when it should have been marked with the AS3 privacy glazing marking.

IV. Rule Requirements: Paragraphs S6, S6.1(a)(b), S6.2, and S6.3(a)(b) of FMVSS No. 205 include the requirements relevant to this petition:

• A Prime glazing material manufacturer must certify, in accordance with 49 U.S.C. 30115, each piece of glazing material to which this standard applies is designed as:

A. A component of any specific motor vehicle or camper; or

B. to be cut into components for use in motor vehicles or items of motor vehicle equipment.

• A prime glazing manufacturer certifies its glazing by adding to the marks required by section 7 of ANSI/SAE Z26.1-1996, in letters and numerals of the same size, the symbol “DOT” and a manufacturer's code mark that NHTSA assigns to the manufacturer.

• NHTSA will assign a code mark to a manufacturer after the manufacturer submits a written request to the Office of Vehicle Safety Compliance, National Highway Traffic Safety Administration. The request must include the company name, address, and a statement from the manufacturer certifying its status as a prime glazing manufacturer as defined in paragraph S4.

• A manufacturer or distributor who cuts a section of glazing material to which this standard applies, for use in a motor vehicle or camper, must:

A. Mark that material in accordance with section 7 of ANSI/SAE Z26.1-1996; and

B. certify that its product complies with this standard in accordance with 49 U.S.C. 30115.

V. Summary of FCA US's Petition: FCA US described the subject noncompliance and stated its belief that the noncompliance is inconsequential as it relates to motor vehicle safety.

In support of its petition, FCA US submitted the following reasoning:

1. The liftgate glass glazing of the affected vehicles otherwise meets all marking and performance requirements of FMVSS No. 205 and ANSI Z26.1, and as NHTSA has previously noted, “The purpose of this standard [FMVSS No. 205] is to ensure a necessary degree of transparency in motor vehicle windows for driver visibility, and to minimize the possibility of occupants being thrown through the vehicle windows in collisions.” Because all transparent sections of the affected glazing fully meet all the applicable performance requirements, FCA US does not believe the incorrect AS2 marking impacts the applicable performance requirements. FCA US also does not believe that the incorrect AS2 marking impacts the ability of the glazing to satisfy the stated purpose or affects the performance of the glazing as required by FMVSS No. 205.

2. The subject glazing meets all applicable performance requirements of FMVSS No. 205 and FCA US believes there is no safety performance implication associated with this technical noncompliance.

3. In addition to meeting component-level performance requirements of FMVSS No. 205, the subject glazing also fully meets the vehicle-level installation requirements specified by FMVSS No. 205. The subject glazing at 22% light transmissibility is permitted in the liftgate glass location on the affected Jeep Compass vehicles.

4. The actual transmissibility of the subject liftgate glass glazing (approximately 22%) is consistent with all the other glazing rearward of the driver (i.e. left and right side windows, and the left and right rear-quarter window glazing) on the affected Jeep Compass vehicles. Accordingly, there is no reason for the customer, state inspection authorities, service personnel or anyone else to focus on or detect any distinction involving the subject liftgate glass.

5. Even in the extremely unlikely event that a glazing corresponding to the incorrect markings (i.e. solar glazing with 70% transmittance) was installed on an affected vehicle, this would also be fully compliant to all requirements of FMVSS No. 205.

6. FCA US is not aware of any crashes, injuries, or customer complaints associated with this condition.

7. NHTSA has previously granted similar inconsequential treatment for FMVSS No. 205 marking noncompliance. Examples of similar granted inconsequentiality petitions for incorrect markings related to glazing include:

a. Supreme Corporation, NHTSA-2015-0126 N2 October 21, 2016.

b. Mitsubishi Motors North America, Inc., NHTSA-2015-0066 N2, August 22, 2015.

c. Ford Motor Company, NHTSA-2014-0054 N2, March 2, 2015.

d. Custom Glass Solutions Upper Sandusky Corp., NHTSA-2013-0124 N2, January 23, 2015.

e. General Motors, LLC, NHTSA-2013-0039 N2, April 28, 2015.

f. Fuji Heavy Industries U.S.A., Inc., NHTSA-2013-0017 N2, September 25, 2013.

g. Please see FCA US's petition for their complete list of petitions that were previously granted by NHTSA for glazing markings.

FCA US concluded by expressing the belief that the subject noncompliance is inconsequential as it relates to motor vehicle safety, and that its petition to be exempted from providing notification of the noncompliance, as required by 49 U.S.C. 30118, and a remedy for the noncompliance, as required by 49 U.S.C. 30120, should be granted.

FCA US' complete petition and all supporting documents are available by logging onto the Federal Docket Management System (FDMS) website at: https://www.regulations.gov and following the online search instructions to locate the docket number listed in the title of this notice.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that FCA US no longer controlled at the time it determined that the noncompliance existed. However, any decision on this petition does not relieve vehicle distributors and dealers of the prohibitions on the sale, offer for sale, or introduction or delivery for introduction into interstate commerce of the noncompliant vehicles under their control after FCA US notified them that the subject noncompliance existed.

Authority: (49 U.S.C. 30118, 30120: delegations of authority at 49 CFR 1.95 and 501.8)

Claudia W. Covell,
Acting Director, Office of Vehicle Safety Compliance.

[FR Doc. 2018-07829 Filed 4-13-18; 8:45 am]

BILLING CODE 4910-59-P